DEPARTMENT OF STATE

[Public Notice: 12701]

Cultural Property Advisory Committee

ACTION: Notice of meeting.

SUMMARY: The Department of State announces the location, dates, times, and agenda for the next meeting of the Cultural Property Advisory Committee (“the Committee”).

DATES: The Committee will meet from May 20-23, 2025, from 9 a.m. to 5 p.m. (EDT). The public may participate in, or observe, the virtual open session on May 20, 2025, from 2 p.m. to 3 p.m. (EDT). More information below.

ADDRESSES: The Committee will meet at 600 19th Street NW, Washington, DC 20006. The public will participate via videoconference.

FOR FURTHER INFORMATION CONTACT: Andrew Zonderman, Cultural Heritage Center, Bureau of Educational and Cultural Affairs: (202) 718-9481; culprop@state.gov.

SUPPLEMENTARY INFORMATION: The Acting Assistant Secretary for the Bureau of Educational and Cultural Affairs calls a meeting of the Cultural Property Advisory Committee (“the Committee”) in accordance with the Convention on Cultural Property Implementation Act (19 U.S.C. 2601-2613) (“the Act”). A portion of this meeting will be closed to the public pursuant to 5 U.S.C. 552b(c)(9)(B) and 19 U.S.C. 2605(h).

Meeting Agenda: The Committee will review a request from the Government of the Socialist Republic of Vietnam seeking import restrictions on archaeological and ethnological materials, the proposed extension of the agreement with the Government of the Republic of Chile, the proposed extension of the agreement with the Government of the Italian Republic, the proposed extension of the agreement with the Government of the Kingdom of Morocco, and the proposed extension of the agreement with the Government of the Republic of Costa Rica. This meeting will subsume the agenda of the postponed February 2025 Committee meeting (89 FR 106722).

The Open Session: The public can observe the virtual open session on May 20, 2025. Registered participants may provide oral comments for up to a maximum of five (5) minutes each. The Department provides specific instructions on how to observe or provide oral comments at the open session at https://eca.state.gov/highlight/cultural-property-advisory-committee-meeting-may-20-23-2025.

Register to speak at the open session by sending an email with your name and organizational affiliation, as well as any requests for reasonable accommodation, by May 13, 2025. Those who submit written comments in advance of the meeting are not required to make an oral comment during the open session.

The Committee will review written comments if received by 11:59 p.m. (EDT) on May 13, 2025. Written comments may be submitted in two ways, depending on whether they contain confidential information:

1. General Comments: For general comments, use https://www.regulations.gov, enter the docket DOS-2025-0003, and follow the prompts.

2. Confidential Comments: For comments that contain privileged or confidential information (within the meaning of 19 U.S.C. 2605(i)(1)), please email submissions to culprop@state.gov. Include “Vietnam,” “Chile,” “Italy,” “Morocco,” and/or “Costa Rica” in the subject line.

3. Disclaimer: The Cultural Heritage Center website contains additional information about each agenda item, including categories of archaeological and ethnological material that may be included in import restrictions: https://eca.state.gov/highlight/cultural-property-advisory-committee-meeting-may-20-23-2025. Comments should relate specifically to the determinations specified in the Act at 19 U.S.C. 2602(a)(1). Written comments submitted via regulations.gov are not private and are posted at https://www.regulations.gov. Because written comments cannot be edited to remove any personally identifying or contact information, we caution against including any such information in an electronic submission without appropriate permission to disclose that information (including trade secrets and commercial or financial information that is privileged or confidential within the meaning of 19 U.S.C. 2605(i)(1)). We request that any party soliciting or aggregating written comments from other persons inform those persons that the Department will not edit their comments to remove any identifying or contact information and that they therefore should not include any such information in their comments that they do not want publicly disclosed.

Andrew L. Zonderman,
Designated Federal Officer, Cultural Property Advisory Committee, Bureau of Educational and Cultural Affairs, Department of State.

[FR Doc. 2025-06901 Filed 4-22-25; 8:45 am]

BILLING CODE 4710-05-P